DEPARTMENT OF DEFENSE

Department of the Navy

Notice of Availability of Record of Decision for the Final Environmental Impact Statement for the Disposal and Reuse of Surplus Property at Naval Station Newport, Rhode Island

AGENCY: Department of the Navy, DoD.

ACTION: Notice.

SUMMARY: The U.S. Department of the Navy (Navy), after carefully weighing the environmental consequences of the proposed action, announces its decision to implement Alternative 1, the Navy's preferred alternative as described in the Final Environmental Impact Statement (EIS) for the Disposal and Reuse of Surplus Property at Naval Station (NAVSTA) Newport, Rhode Island. This decision will make 158 acres of former NAVSTA Newport property available to the local communities of Aquidneck Island for economic redevelopment.

SUPPLEMENTARY INFORMATION: Disposal and reuse under the chosen alternative is consistent with the Aquidneck Island Reuse Planning Authority's “Redevelopment Plan for Surplus Properties at NAVSTA Newport” (Redevelopment Plan) and Public Law 101-510, the Defense Base Closure and Realignment Act of 1990, as amended in 2005 (BRAC Law). The complete text of the Record of Decision (ROD) is available for public viewing on the project Web site at https://www.BRACPMO.Navy.mil along with the Final EIS and supporting documents. Single copies of the ROD will be made available upon request by contacting: Mr. Gregory Preston, BRAC Program Management Office East, 4911 South Broad Street, Building 679, Philadelphia, PA 19112-1303, telephone 215-897-4900, facsimile 215-897-4902, email gregory.preston@navy.mil.

Dated: August 7, 2017.
A.M. Nichols,
Lieutenant Commander, Judge Advocate General's Corps, U.S. Navy, Federal Register Liaison Officer.

[FR Doc. 2017-17140 Filed 8-14-17; 8:45 am]

BILLING CODE 3810-FF-P